DEPARTMENT OF TRANSPORTATION

Federal Aviation Administration

14 CFR Part 39

[Docket No. FAA-2005-22039; Directorate Identifier 2005-NE-33-AD]

RIN 2120-AA64

Airworthiness Directives; Turbomeca S.A. Arrius 2F Turboshaft Engines

AGENCY: Federal Aviation Administration (FAA), Department of Transportation (DOT).

ACTION: Notice of proposed rulemaking (NPRM).

SUMMARY: The FAA proposes to supersede an existing airworthiness directive (AD) for Turbomeca S.A. Arrius 2F turboshaft engines that have not incorporated Turbomeca Modification Tf75. That AD currently requires replacing the O-ring on the check valve piston in the lubrication unit at repetitive intervals. This proposed AD would require the same repetitive replacements and would require incorporating Modification Tf75 as terminating action to the repetitive O-ring replacements. Modification Tf75 replaces the check valve piston with a piston design not requiring an O-ring. This proposed AD results from the European Aviation Safety Agency (EASA) and Turbomeca S.A. mandating the incorporation of Modification Tf75. We are proposing this AD to prevent an uncommanded in-flight shutdown of the engine, which could result in a forced autorotation landing and damage to the helicopter.

DATES: We must receive any comments on this proposed AD by March 23, 2009.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

FOR FURTHER INFORMATION CONTACT: James Lawrence, Aerospace Engineer, Engine Certification Office, FAA, Engine and Propeller Directorate, 12 New England Executive Park, Burlington, MA 01803; e-mail: james.lawrence@faa.gov; telephone (781) 238-7176; fax (781) 238-7199.

SUPPLEMENTARY INFORMATION:

Comments Invited

We invite you to send any written relevant data, views, or arguments regarding this proposal. Send your comments to an address listed under ADDRESSES. Include “Docket No. FAA-2005-22039; Directorate Identifier 2005-NE-33-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

Discussion

On February 7, 2007, we issued AD 2005-17-17R1, Amendment 39-14940 (72 FR 6925, February 14, 2007). That AD requires replacing the O-ring on the check valve piston in the lubrication unit at repetitive intervals. EASA, which is the Technical Agent for the Member States of the European Community, notified us that an unsafe condition may exist on Turbomeca S.A. Arrius 2F turboshaft engines that have not incorporated Turbomeca Modification Tf75. EASA advises that these engines could experience an uncommanded in-flight shutdown, which could result in a forced autorotation landing and damage to the helicopter.

Actions Since AD 2005-17-17R1 Was Issued

Since AD 2005-17-17R1 was issued, EASA and Turbomeca have mandated that the check valve piston in the lubrication unit be replaced with a check valve piston not requiring an O-ring, no later than May 31, 2009, by incorporating Modification Tf75.

Relevant Service Information

We have reviewed and approved the technical contents of Turbomeca S.A. Mandatory Service Bulletin (MSB) No. 319 79 4075, Version B, dated May 14, 2008. That MSB describes procedures for incorporating Modification Tf75, which replaces the check valve piston with one not requiring an O-ring. EASA classified this MSB as mandatory and issued AD 2008-0170 to ensure the airworthiness of these Arrius 2F turboshaft engines in Europe.

Bilateral Agreement Information

This engine model is manufactured in France and is type certificated for operation in the United States under the provisions of Section 21.29 of the Federal Aviation Regulations (14 CFR 21.29) and the applicable bilateral airworthiness agreement. Under this bilateral airworthiness agreement, EASA has kept us informed of the situation described above. We have examined the findings of EASA, reviewed all available information, and determined that AD action is necessary for products of this type design that are certificated for operation in the United States.

FAA's Determination and Requirements of the Proposed AD

We have evaluated all pertinent information and identified an unsafe condition that is likely to exist or develop on other products of this same type design. We are proposing this AD, which would require replacing the O-ring on the check valve piston in the lubrication unit at repetitive intervals. This proposed AD would also require incorporating Modification Tf75 within 5 months after the AD effective date, as terminating action to the repetitive O-ring replacements. The proposed AD would require that you do these actions using the service information described previously.

Costs of Compliance

We estimate that this proposed AD would affect 94 Arrius 2F turboshaft engines installed on helicopters of U.S. registry. We also estimate that it would take about one work-hour per engine to perform an O-ring replacement, and about one work-hour to incorporate Modification Tf75. The average labor rate is $80 per work-hour. Required parts would cost about $16 per engine for O-ring replacement, and about $20 per engine for incorporating Modification Tf75. Based on these figures, we estimate the total cost of the proposed AD to U.S. operators to be $18,424.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Incorporation by reference, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14940 (72 FR 6925, February 14, 2007) and by adding a new airworthiness directive, to read as follows:

Turbomeca S.A: Docket No. FAA-2005-22039; Directorate Identifier 2005-NE-33-AD.

Comments Due Date

(a) The Federal Aviation Administration (FAA) must receive comments on this airworthiness directive (AD) action by March 23, 2009.

Affected ADs

(b) This AD supersedes AD 2005-17-17R1, Amendment 39-14940, as terminating action to the repetitive O-ring replacements required by that AD.

Applicability

(c) This AD applies to Turbomeca S.A. Arrius 2F turboshaft engines that have not incorporated modification Tf75. These engines are installed on, but not limited to, Eurocopter EC120B helicopters.

Unsafe Condition

(d) This AD results from the European Aviation Safety Agency (EASA) and Turbomeca S.A. mandating the incorporation of Modification Tf75. The actions specified in this AD are intended to prevent an uncommanded in-flight shutdown of the engine, which could result in a forced autorotation landing and damage to the helicopter.

Compliance

(e) You are responsible for having the actions required by this AD performed within the compliance times specified unless the actions have already been done.

O-Ring Replacement

(f) Replace the O-ring on the check valve piston in the lubrication unit at the intervals specified in Table 1 of this AD. Use the Instructions to be Incorporated paragraphs 2.A. through 2.C.(2) of Turbomeca Alert Service Bulletin No. A319 79 4802, Update No. 1, dated April 3, 2006, to replace the O-ring.

Table 1—Compliance Times for O-Ring Replacement
If the class of oil is: | Then replace the O-ring by the later of: | Thereafter, replace the O-ring within:
(1) HTS or unknown. | 300 hours time-since-new (TSN) or 50 hours after March 21, 2007 (effective date of AD 2005-17-17R1) | 300 hours time-since-last replacement (TSR).
(2) STD | 450 hours TSN or 50 hours after March 21, 2007 (effective date of AD 2005-17-17R1) | 500 hours TSR.

Mandatory Terminating Action

(g) Within 5 months after the effective date of this AD, do the following mandatory terminating action to the repetitive O-ring replacements:

(1) Incorporate Turbomeca Modification Tf75 by replacing the check valve piston in the lubrication unit, with a check valve piston requiring no O-ring.

(2) Use the Instructions to be Incorporated paragraphs 2.A. through 2.B.(1)(r) of Turbomeca Mandatory Service Bulletin No. 319 79 4075, Version B, dated May 14, 2008, to replace the check valve piston.

Alternative Methods of Compliance

(h) The Manager, Engine Certification Office, FAA, has the authority to approve alternative methods of compliance for this AD if requested using the procedures found in 14 CFR 39.19.

Related Information

(i) EASA AD 2008-0170, dated September 25, 2008, also addresses the subject of this AD.

(j) Contact Turbomeca S.A., 40220 Tarnos, France; e-mail: noria-dallas@turbomeca.com; telephone 33 05 59 74 40 00, fax 33 05 59 74 45 15, or go to: http://www.turbomeca-support.com, for a copy of the service information identified in this AD.

(k) Contact James Lawrence, Aerospace Engineer, Engine Certification Office, FAA, Engine and Propeller Directorate, 12 New England Executive Park, Burlington, MA 01803; e-mail: james.lawrence@faa.gov; telephone (781) 238-7176; fax (781) 238-7199, for more information about this AD.

Issued in Burlington, Massachusetts, on January 13, 2009.
Peter A. White,
Assistant Manager, Engine and Propeller Directorate, Aircraft Certification Service.

[FR Doc. E9-1186 Filed 1-21-09; 8:45 am]

BILLING CODE 4910-13-P